DEPARTMENT OF HOMELAND SECURITY

Effective Security of Aircraft and Safety of Passengers Transiting Port-au-Prince, Haiti

AGENCY: Department of Homeland Security.

ACTION: Notice.

SUMMARY: This notice informs the public that the Secretary of Homeland Security has now determined that Port-au-Prince International Airport, Port-au-Prince, Haiti, maintains and carries out effective security measures.

FOR FURTHER INFORMATION CONTACT: Richard H. Stein, General Manager, International, Transportation Security Administration, 601 South 12th Street, Arlington, VA, 22202, Telephone: (571) 227-2764, e-mail: Richard.Stein@dhs.gov.

Notice

On January 24, 2005, the Secretary of Homeland Security published notice in the Federal Register (70 FR 3378) of his determination issued on December 22, 2004, pursuant to 49 U.S.C. 44907, that Port-au-Prince International Airport, Port-au-Prince, Haiti, did not maintain and carry out effective security measures. He based the determination on Transportation Security Administration (TSA) assessments that security measures used at Port-au-Prince International Airport did not meet the standards established by the International Civil Aviation Organization (ICAO).

The Secretary of Homeland Security now finds that Port-au-Prince International Airport maintains and carries out effective security measures; based on recent assessments by TSA that reveal that security measures used at the airport meet the ICAO standards. Accordingly, the Department of Homeland Security (DHS) is removing the public notification requirements on U. S. and foreign air carrier (and their agents) to provide notice of the Department's determination to each passenger buying a ticket between the United States and Port-au-Prince International Airport, and is directing all U. S. airports to remove signs posted regarding the determination. Further, DHS is notifying the news media of this determination.

Issued in Washington, DC, on June 27, 2006.
Michael Chertoff,
Secretary.

[FR Doc. E6-11761 Filed 7-24-06; 8:45 am]

BILLING CODE 9910-05-P